NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 15, 2009, 8:30 a.m.-5 p.m. and April 16, 2009, 8:30 a.m.-2 p.m.

Place: Stafford I, Room 1235, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for research, education, and human resources development in the geosciences.

Agenda:

April 15, 2009

Directorate activities and plans.

SODV Briefing.

Division Subcommittee Meetings.

Education & Diversity Subcommittee Meeting.

April 16, 2009

Subcommittee Reports.

Meeting with the Director.

Action Items/Planning for Fall Meeting.

Dated: March 10, 2009.
Susanne Bolton,
Committee Management Officer.

[FR Doc. E9-5440 Filed 3-12-09; 8:45 am]

BILLING CODE 6717-01-P